DEPARTMENT OF HEALTH AND HUMAN SERVICES

Centers for Disease Control and Prevention

[60 Day-05BI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Surveys of Past HIV Prevention Technology Transfer Efforts—New—National Center for HIV, STD and TB Prevention (NCHSTP), Centers for Disease Control and Prevention (CDC).

The purpose of these surveys is to study the effectiveness of providing HIV prevention agencies with packaged intervention, training, and technical assistance to ensure the agencies' maintenance of the intervention. The project's results will be used by CDC as they develop a national program for dissemination and support of packaged interventions that will increase the likelihood that agencies will conduct them with fidelity for several years. The population being surveyed will be staff members of 16 prevention agencies that implemented one of five unique, packaged interventions between 1997 and 2000 as part of CDC's ongoing Replicating Effective Programs (REP) project.

A survey will be administered over the telephone to Agency Administrators from the 16 prevention agencies that implemented an intervention packaged by the REP project. Additional surveys will be administered in-person to one Intervention Supervisor and two Intervention Facilitators at agencies that are continuing to implement the REP-packaged intervention. The objectives of the surveys include, but are not limited to (a) identification of factors associated with maintenance and termination of REP-packaged interventions; (b) determination of why and how agencies adapted the packaged interventions; (c) examination of the impact of elapsed time on maintenance of the intervention and fidelity to intervention protocols; (d) identification of any differences between the type of agency (i.e., community-based organization, health department) on maintenance and fidelity; (e) identification of any difference between the type of original researcher (i.e., academic, non-profit) on maintenance and fidelity; and (f) identification of perceived and actual benefits, as well as instrumental and conceptual utility, of REP-packaged interventions that can be used in marketing the intervention packages to other HIV prevention providers. Researchers administering the in-person surveys also will assess fidelity to intervention protocols by observing facilitators delivering the intervention and by recording their observations on a checklist designed for the particular intervention being observed.

Survey questionnaire data will be collected once from each respondent (e.g., Agency Administrator, Intervention Supervisor, Intervention Facilitator). There are no costs to respondents for participation in the survey other than the time it takes them to participate. Respondents will receive an honorarium valued at no more than $25 in appreciation for their time. It is not known how many agencies are continuing to implement a REP-packaged intervention (at least one agency is known to have terminated implementation); therefore, the calculations below reflect the maximum number of Intervention Supervisors and Intervention Facilitators that could be surveyed. This submission is requesting approval for a 1-year clearance for data collection. There are no costs to respondents except for their time.

Annualized Burden
Respondents | Number of respondents | Number of responses per respondent | Average burden per response (in hrs) | Total burden hours
Agency Administrators from all agencies that implemented a REP-packaged intervention (content review) | 16 | 1 | 20/60 | 5
Agency Administrators from all agencies that implemented a REP-packaged intervention (questionnaire) | 16 | 1 | 1.5 | 24
Intervention Supervisors from the agencies that are maintaining a REP-packaged intervention | 15 | 1 | 1.5 | 23
Intervention Facilitators from the agencies that are maintaining a REP-packaged intervention | 30 | 1 | 1.75 | 53
Total |  |  |  | 105

Dated: February 15, 2005.
Betsey Dunaway,
Acting Reports Clearance Officer, Office of the Chief Science Officer, Centers for Disease Control and Prevention.

[FR Doc. 05-3272 Filed 2-18-05; 8:45 am]

BILLING CODE 4163-18-P